NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before June 20, 2003. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the government and of private persons directly affected by the government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Air Force, Agency-wide (N1-AFU-03-10, 2 items, 2 temporary items). Biographical records concerning members of Congress and their key staff. Records are provided to Air Force representatives testifying before Congress or serving as congressional escorts and also are used in connection with mailings to members of Congress. Records include information relating to such matters as committee memberships, floor votes, and mailing addresses. Also included are electronic copies of records created using electronic mail and word processing.

2. Department of the Army, Agency-wide (N1-AU-03-4, 4 items, 2 temporary items). Summary reports associated with an electronic records system used to track the training, mobilization, and deployment of Army troops stationed in the U.S. Also included are electronic copies of documents created using electronic mail and word processing. The electronic data in this system and the related documentation are proposed for permanent retention.

3. Department of Defense, National Imagery and Mapping Agency (N1-537-02-3, 13 items, 10 temporary items). Records relating to general historical activities, historian's background files, extra copies of publications, historical property accountability files, and oral history audio recordings. Also included are electronic copies of documents created using word processing and electronic mail. Proposed for permanent retention are recordkeeping copies of files of historical materials, a record set of agency history publications, and oral history transcripts. This schedule authorizes the agency to apply the proposed disposition instructions to any recordkeeping medium.

4. Department of Defense, National Imagery and Mapping Agency (N1-537-03-3, 8 items, 8 temporary items). Records of the Human Resources Directorate relating to manpower structure and staffing levels. Also included are electronic copies of records created using electronic mail and word processing. This schedule authorizes the agency to apply the proposed disposition instructions to any recordkeeping medium.

5. Department of Housing and Urban Development, Office of Healthy Homes and Lead Hazard Control (N1-207-02-4, 13 items, 12 temporary items). Regulatory compliance records relating to lead hazard control, including planning records and lists, investigation and compliance case records, and a compliance database index. Electronic copies of records created using electronic mail and word processing are also included. Recordkeeping copies of reports, studies, and publications are proposed for permanent retention.

6. Department of Housing and Urban Development, Office of Fair Housing and Equal Opportunity (N1-207-03-2, 8 items, 6 temporary items). Records associated with the Title Eight Automated Paperless Office Tracking System, including such records as reference copies of system documentation, electronic web input template screens, regular and ad hoc reports and form letters, and backup tapes. Recordkeeping copies of the master data files and the related system documentation are proposed for permanent retention.

7. Department of Labor, Bureau of Employment Security (N1-183-03-1, 4 items, 3 temporary items). Routine congressional correspondence for the year 1964, general subject files for the period 1943-1949 that document routine administrative matters, and punch cards containing statistical data submitted by State Employment Offices for the years 1938-1969. Proposed for permanent retention are general subject files for the period 1957-1961.

8. Department of State, Foreign Service Institute (N1-59-03-4, 6 items, 6 temporary items). Electronic records relating to language training in overseas schools and language testing, including electronic copies of documents created using electronic mail and word processing. This schedule also reduces the retention period of the related paper files, which were previously approved for disposal.

9. Central Intelligence Agency, Directorate of Intelligence (N1-263-02-4, 2 items, 2 temporary items). Demarche requests created and maintained in the Center for Weapons Intelligence, Nonproliferation, and Arms Control. Also included are electronic copies of documents created using word processing and electronic mail. This schedule authorizes the agency to apply the proposed disposition instructions to any recordkeeping medium.

10. Environmental Protection Agency, Office of Water (N1-412-03-06, 4 items, 2 temporary items). Software programs and inputs associated with the Safe Drinking Water Information System, an electronic records system used to monitor compliance with the Safe Drinking Water Act. Electronic data files and the supporting documentation are proposed for permanent retention.

11. National Archives and Records Administration, Office of the Federal Register (N1-64-03-4, 9 items, 4 temporary items). Approval letters and other correspondence relating to Incorporation by Reference publications. Also included are electronic copies of records created using electronic mail and word processing. Proposed for permanent retention are recordkeeping copies of publications that were approved for Incorporation by Reference in the Federal Register.

12. National Commission for the Review of the National Reconnaissance Office, Agency-wide (N1-220-01-2, 3 items, 2 temporary items). A videotape copy of a commercial television production and electronic copies of documents created using word processing. Proposed for permanent retention are recordkeeping copies of records relating to the work and activities of the Commission such as correspondence, reports, briefings, organizational information, and the Commission's final report.

Dated: April 30, 2003.
Michael J. Kurtz,
Assistant Archivist for Record Services—Washington, DC.

[FR Doc. 03-11134 Filed 5-5-03; 8:45 am]

BILLING CODE 7515-01-P